GENERAL SERVICES ADMINISTRATION

[OMB Control No. 3090-0250; Docket No. 2023-0001; Sequence No. 6]

Information Collection; General Services Administration Acquisition Regulation; Federal Supply Schedule Contract Administration Information

AGENCY: Office of Acquisition Policy, General Services Administration (GSA).

ACTION: Notice of request for comments regarding an extension to an existing OMB information collection.

SUMMARY: Under the provisions of the Paperwork Reduction Act, the Regulatory Secretariat Division will be submitting to the Office of Management and Budget a request to review and approve an extension of a previously approved information collection regarding Federal Supply Schedule contract administration information.

DATES: Submit comments on or before: January 5, 2024.

ADDRESSES: Submit comments identified by Information Collection 3090-0250, Federal Supply Schedule (FSS) Contract Administration Information via http://www.regulations.gov. Submit comments via the Federal eRulemaking portal by searching the OMB control number 3090-0250. Select the link “Comment Now” that corresponds with “Information Collection 3090-0250, FSS Contract Administration Information”. Follow the instructions provided on the screen. Please include your name, company name (if any), and “Information Collection 3090-0250, FSS Contract Administration Information” on your attached document.

Instructions: Please submit comments only and cite Information Collection 3090-0250, FSS Contract Administration Information, in all correspondence related to this collection. Comments received generally will be posted without change to regulations.gov, including any personal and/or business confidential information provided. To confirm receipt of your comment(s), please check regulations.gov, approximately two-to-three days after submission to verify posting.

FOR FURTHER INFORMATION CONTACT: Ms. Vernita Misidor, Procurement Analyst, at GSARpolicy@gsa.gov or 202-357-9681.

SUPPLEMENTARY INFORMATION:

A. Purpose

GSA requires information from Federal Supply Schedule contractors that will be used to conduct award oversight or generate mandatory reports during contract administration. For these contractors, providing commercial supplies and services, much of this information is readily available to the public at large, or is routinely exchanged by firms during the normal course of business. This general information collection covers these contract administration requirements, as outlined in GSAR Subpart 538.2—Establishing and Administering Federal Supply Schedules.

B. Annual Reporting Burden

This information collection requires no expenditure of resources to gather the information for submission, as the information is often exchanged by commercial business firms in their catalogs or other public documents during the normal course of business. The nominal amount of burden imposed on the public is simply to relay the requested information.

Respondents: 14,000.

Responses per Respondent: 1.

Total Annual Responses: 14,000.

Hours per Response: 0.03 (2 minutes).

Total Burden Hours: 420.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the Regulatory Secretariat Division, at GSARegSec@gsa.gov.

Please cite OMB Control No. 3090-0250, FSS Contract Administration Information, in all correspondence.

Jeffrey A. Koses,
Senior Procurement Executive, Office of Acquisition Policy, Office of Government-wide Policy.

[FR Doc. 2023-24433 Filed 11-3-23; 8:45 am]

BILLING CODE 6820-14-P